DEPARTMENT OF COMMERCE

International Trade Administration

[A-762-001]

Silicon Metal From Angola: Final Affirmative Determination of Sales at Less Than Fair Value and Classification of Angola as a Non-Market Economy

AGENCY: Enforcement and Compliance, International Trade Administration, Department of Commerce.

SUMMARY: The U.S. Department of Commerce (Commerce) determines that silicon metal from Angola is being, or is likely to be, sold in the United States at less than fair value (LTFV). The period of investigation is April 1, 2024, through March 31, 2025. Commerce has also determined to treat Angola as a non-market economy (NME) in forthcoming proceedings.

DATES: Applicable February 23, 2026.

FOR FURTHER INFORMATION CONTACT: Christopher Doyle, AD/CVD Operations, Office IX, Enforcement and Compliance, International Trade Administration, U.S. Department of Commerce, 1401 Constitution Avenue NW, Washington, DC 20230; telephone: (202) 482-5882.

SUPPLEMENTARY INFORMATION:

Background

On September 30, 2025, Commerce published the Preliminary Determination of sales at LTFV of silicon metal from Angola and invited interested parties to comment.¹ No interested party submitted comments on the Preliminary Determination. Accordingly, the final determination remains unchanged from the Preliminary Determination and, thus, there is no decision memorandum accompanying this notice.

¹ See Silicon Metal from Angola: Preliminary Affirmative Determination of Sales at Less Than Fair Value, 90 FR 46810 (September 30, 2025) (Preliminary Determination); see also Silicon Metal from Angola: Preliminary Affirmative Determination of Sales at Less-Than-Fair-Value; Correction, 90 FR 52913 (November 24, 2025) (correcting the end date of the POI listed in the Preliminary Determination).

Due to the lapse in appropriations and Federal Government shutdown, on November 14, 2025, Commerce tolled all deadlines in administrative proceedings by 47 days.² Additionally, due to a backlog of documents that were electronically filed via Enforcement and Compliance's Antidumping and Countervailing Duty Centralized Electronic Access System (ACCESS) during the Federal Government shutdown, on November 24, 2025, Commerce tolled all deadlines in administrative proceedings by an additional 21 days.³ Accordingly, the deadline for the final determination is now February 17, 2026.

² See Memorandum, “Deadlines Affected by the Shutdown of the Federal Government,” dated November 14, 2025.

³ See Memorandum, “Tolling of all Case Deadlines,” dated November 24, 2025.

On February 5, 2026, Commerce solicited surrogate country and surrogate value information from interested parties,⁴ and we received comments from the petitioners, Ferroglobe USA, Inc. and Mississippi Silicon LLC.⁵

⁴ See Commerce's Letter, “Request for Surrogate Country and Surrogate Value Information,” dated February 5, 2026; see also Commerce's Letter, “Revised Request for Surrogate Country and Surrogate Value Information,” dated February 6, 2026.

⁵ See Petitioners' Letter, “Response to Request for Surrogate Country and Surrogate Value Information,” dated February 10, 2026.

Scope of the Investigation

The product covered by this investigation is silicon metal from Angola. For a complete description of the scope of this investigation, see the appendix to this notice.

Scope Comments

We received no comments from interested parties on the scope of the investigation as it appeared in the Preliminary Determination. Therefore, we made no changes to the scope of the investigation.

Verification

As Commerce had no participating respondents in this investigation, no on-site verification was conducted.

Use of Adverse Facts Available (AFA)

As discussed in the Preliminary Determination, Commerce preliminarily assigned to PC Silicon Co. Limited (PC Silicon) and Wanhongda International Limited (Wanhongda), two companies that did not respond to our quantity and value questionnaire, estimated weighted-average dumping margins on the basis of AFA pursuant to sections 776(a) and (b) of the Tariff Act of 1930, as amended (the Act).⁶ There is no new information on the record that would cause us to revisit our decision in the Preliminary Determination. Accordingly, for this final determination, we continue to find that the application of AFA, pursuant to sections 776(a) and (b) of the Act, is warranted with respect to PC Silicon and Wanhongda in this investigation.

⁶ See Preliminary Determination, 90 FR at 46810.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act.

In the Preliminary Determination, we assigned an estimated weighted-average dumping margin of 68.45 percent as the all-others rate, pursuant to section 735(c)(5)(B) of the Act.⁷ As noted above, we received no comments on the Preliminary Determination; thus, we continue to assign an estimated weighted-average dumping margin of 68.45 percent as the all-others rate for this final determination.

⁷ Id.

Final Determination

The final estimated weighted-average dumping margins are as follows:

Producer or exporter | Estimated weighted- average dumping margin (percent)
PC Silicon Co. Limited | * 68.45
Wanhongda International Limited | * 68.45
All Others | 68.45
* This rate is based on facts available with adverse inferences.

Angola's Market Economy Status

For this final determination, Commerce has determined to treat Angola as an NME in forthcoming proceedings.⁸ Consistent with Commerce's practice,⁹ this determination will apply to future segments of this proceeding, and Commerce has relied on its market economy methodology in determining the estimated weighted-average dumping margins for this final determination. A detailed explanation of this determination along with discussion of the comments and factual information submitted concerning this determination can be found in the NME Analysis Report, issued concurrently with this memorandum.

⁸ See Memorandum, “Review of Angola's Status as a Market Economy Country,” dated concurrently with this notice (NME Analysis Report).

⁹ See Emulsion Styrene-Butadiene Rubber from the Russian Federation: Final Affirmative Determination of Sales at Less Than Fair Value and Classification of the Russian Federation as a Non-Market Economy, 87 FR 69002 (November 17, 2022) (finding Russia's NME status effective for subsequent proceedings).

Commerce intends to use its NME methodology to calculate antidumping duty (AD) rates in future segments of AD proceedings involving Angola.

Disclosure

Normally, Commerce will disclose to the parties in a proceeding the calculations performed in connection with a final determination within five days of any public announcement or, if there is no public announcement, within five days of the date of publication of this notice in the Federal Register, in accordance with 19 CFR 351.224(b). However, because Commerce received no comments on the Preliminary Determination, it is adopting the Preliminary Determination as the final determination in this investigation. Consequently, there are no new calculations to disclose.

Continuation of Suspension of Liquidation and Cash Deposit Requirements

As a result of our Preliminary Determination, and pursuant to sections 733(d)(1)(B) and (d)(2) of the Act, we instructed U.S. Customs and Border Protection (CBP) to collect cash deposits and suspend liquidation of entries of subject merchandise from Angola that were entered, or withdrawn from warehouse, for consumption, on or after September 30, 2025, the date of the publication of the Preliminary Determination in the Federal Register.¹⁰ In accordance with section 733(d) of the Act, we instructed CBP to discontinue the suspension of liquidation of all entries of subject merchandise entered or withdrawn from warehouse, on or after January 28, 2026, but to continue the suspension of liquidation of all entries of subject merchandise on or before January 27, 2026.

¹⁰ See Preliminary Determination, 90 FR at 46811.

If the U.S. International Trade Commission (ITC) issues an affirmative final injury determination, we will issue an AD order, reinstate the suspension of liquidation under section 736(a) of the Act, and require a cash deposit of estimated antidumping duties for entries of subject merchandise in the amounts indicated above. Pursuant to section 735(c)(2) of the Act, if the ITC determines that material injury, or threat of material injury, does not exist, this proceeding will be terminated, and all estimated duties deposited as a result of the suspension of liquidation will be refunded.

ITC Notification

In accordance with section 735(d) of the Act, Commerce will notify the ITC of its final affirmative determination of sales at LTFV. Because Commerce's final determination is affirmative, in accordance with section 735(b)(2) of the Act, the ITC will determine, within 45 days, whether the domestic industry in the United States is materially injured, or threatened with material injury, by reason of imports of silicon metal. If the ITC determines that material injury or threat of material injury does not exist, this proceeding will be terminated, all cash deposits posted will be refunded, and suspension of liquidation will be lifted. If the ITC determines that such injury does exist, Commerce will issue an AD order directing CBP to assess, upon further instruction by Commerce, antidumping duties on all imports of the subject merchandise entered, or withdrawn from warehouse, for consumption on or after the effective date of the suspension of liquidation, as discussed in the “Continuation of Suspension of Liquidation and Cash Deposit Requirements” section above.

Administrative Protective Order (APO)

This notice will serve as the only reminder to parties subject to an APO of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This determination is issued and published in accordance with sections 735(d) and 777(i)(1) of the Act, and 19 CFR 351.210(c).

Dated: February 17, 2026.
Christopher Abbott,
Deputy Assistant Secretary for Policy and Negotiations, performing the non-exclusive functions and duties of the Assistant Secretary for Enforcement and Compliance.

Appendix

Scope of the Investigation

The scope of this investigation covers all forms and sizes of silicon metal, including silicon metal powder. Silicon metal contains at least 85.00 percent but less than 99.99 percent silicon, and less than 4.00 percent iron, by actual weight. Semiconductor grade silicon (merchandise containing at least 99.99 percent silicon by actual weight and classifiable under Harmonized Tariff Schedule of the United States (HTSUS) subheading 2804.61.0000) is excluded from the scope of this investigation.

Silicon metal is currently classifiable under subheadings 2804.69.1000 and 2804.69.5000 of the HTSUS. While the HTSUS numbers are provided for convenience and customs purposes, the written description of the scope remains dispositive.

[FR Doc. 2026-03477 Filed 2-20-26; 8:45 am]

BILLING CODE 3510-DS-P